DEPARTMENT OF COMMERCE

International Trade Administration

[A-570-137; C-570-138]

Pentafluoroethane (R-125) From the People's Republic of China: Antidumping and Countervailing Duty Orders; Correction

AGENCY: Enforcement and Compliance, International Trade Administration, Department of Commerce.

ACTION: Notice; correction.

SUMMARY: The Department of Commerce (Commerce) published in the Federal Register on March 3, 2022, the antidumping duty (AD) and countervailing duty (CVD) orders of pentafluoroethane (R-125) from the People's Republic of China (China). This notice incorrectly listed the applicable subsidy rates for the companies covered by the CVD order.

FOR FURTHER INFORMATION CONTACT: Adam Simons, AD/CVD Operations, Office II, Enforcement and Compliance, International Trade Administration, U.S. Department of Commerce, 1401 Constitution Avenue NW, Washington, DC 20230; telephone: (202) 482-6174.

SUPPLEMENTARY INFORMATION:

Correction

In the Federal Register of March 3, 2022, in FR Doc 2022-04505, on page 12082, in the table in the third column, correct the subsidy rate (percent) listed for companies covered by the R-125 CVD order to be as follows: 306.57 percent for Arkema Daikin Advanced Fluorochemicals (Changsu) Co., Ltd., Daikin Fluorochemicals (China) Co., Ltd., Hongkong Richmax Ltd., and Weitron International Refrigeration Equipment (Kunshan) Co., Ltd.; 14.66 percent for Zhejiang Quzhou Juxin Fluorine Chemical Co., Ltd.; 12.75 percent for Zhejiang Sanmei Chemical Ind. Co., Ltd.; and 14.43 percent for “All Others.”

Background

On March 3, 2022, Commerce published in the Federal Register the AD and CVD orders on R-125 from China.¹ We incorrectly listed the applicable subsidy rates for the companies covered by the CVD order due to a typographical error. The corrected subsidy rates are as follows:

¹ See Pentafluoroethane (R-125) from the People's Republic of China: Antidumping and Countervailing Duty Orders, 87 FR 12081 (March 3, 2022).

² Commerce has found the following companies to be cross owned with Zhejiang Quzhou Juxin Flourine Chemical Co., Ltd.: Juhua Group Corporation; Zhejiang Juhua Co., Ltd.; Ningbo Juhua Chemical & Science Co., Ltd.; Zhejiang Quzhou Fluoxin Chemicals Co., Ltd.; and Zhejiang Juhua Chemical Mining Co., Ltd.

³ Commerce has found the following company to be cross owned with Zhejiang Sanmei Chemical Ind. Co., Ltd: Fujian Qingliu Dongying Chemical Ind. Co. Ltd.

Company | Subsidy rate (percent)
Arkema Daikin Advanced Fluorochemicals (Changsu) Co., Ltd | 306.57
Daikin Fluorochemicals (China) Co., Ltd | 306.57
Hongkong Richmax Ltd | 306.57
Weitron International Refrigeration Equipment (Kunshan) Co., Ltd | 306.57
Zhejiang Quzhou Juxin Fluorine Chemical Co., Ltd ² | 14.66
Zhejiang Sanmei Chemical Ind. Co., Ltd ³ | 12.75
All Others | 14.43

We hereby notify the public in this notice that we should have identified the subsidy rates listed above for the companies covered by the CVD order. We intend to notify U.S. Customs and Border Protection of this correction.

Notification to Interested Parties

This notice is issued and published in accordance with section 706(a) of the Tariff Act of 1930, as amended, and 19 CFR 351.211(b).

Dated: March 3, 2022.
Lisa W. Wang,
Assistant Secretary for Enforcement and Compliance.

[FR Doc. 2022-04946 Filed 3-8-22; 8:45 am]

BILLING CODE 3510-DS-P